DEPARTMENT OF COMMERCE

National Oceanic and Atmospheric Administration

ENVIRONMENTAL PROTECTION AGENCY

Coastal Nonpoint Pollution Control Program: Proposed Findings Document

AGENCY: National Oceanic and Atmospheric Administration, Department of Commerce, and the Environmental Protection Agency.

ACTION: Notice of availability of proposed findings document on conditional approval of coastal nonpoint pollution control program for Texas.

SUMMARY: Second notice is hereby given of the intent to conditionally approve the Texas Coastal Nonpoint Pollution Control Program (coastal nonpoint program) and notice is hereby given of the availability of the revised Proposed Findings Document on the conditional approval. Section 6217 of the Coastal Zone Act Reauthorization Amendments (CZARA) 16 U.S.C. section 1455b, requires States and Territories with coastal zone management programs that have received approval under section 306 of the Coastal Zone Management Act to develop and implement coastal nonpoint programs. Coastal States and Territories were required to submit their coastal nonpoint programs to the National Oceanic and Atmospheric Administration (NOAA) and the U.S. Environmental Protection Agency (EPA for approval. The Findings Document was prepared by NOAA and EPA to provide the rationale for the agencies' decision to approve each State and Territory coastal nonpoint pollution control program. NOAA and EPA have proposed to approve, with conditions, the coastal nonpoint pollution control program submitted by Texas.

On September 28, 2001, the first Federal Register notice of NOAA's and EPA's intent to conditionally approve the Texas Coastal Nonpoint Program and the availability of the Proposed Findings Document, Environmental Assessment and Finding of No Significant Impact was published. Subsequent to the notice being published, Texas requested additional time to provide additional information and address some of the conditions before the findings were finalized. Texas was able to meet several of the conditions, and NOAA and EPA have revised the Proposed Findings Document accordingly. The following changes have been made to the Proposed Findings Document: (1) the enforceable policy element of the conditions for agriculture, forestry, urban (new development, site development, existing development, watershed protection, and roads, highways and bridges), marinas, and hydromodification has been met through the State's submission of a revised legal opinion. (2) The condition for the urban construction site chemical control, roads, highways and bridges (construction projects and construction site chemical control), and hydromodification (dams) erosion and sediment control and chemical and pollutant control management measures have been addressed through issuance of the National Pollutant Discharge Elimination System (NPDES) Phase II permit. (3) NOAA and EPA have reinstated the previously excluded agricultural dryland rowcrop area subject to receiving additional information to support its exclusion. (4) An alternative for addressing the urban new and existing development management measures condition has been proposed that would allow Texas to finalize its State NPDES rules to ensure that they are required throughout the 6217 management area. (5) The findings for the roads, highways and bridges management measures (planning, siting, development, operation and maintenance, and runoff systems management measures) were revised to clarify that the condition applies only to roads, highways and bridges that are not under the jurisdiction of the Texas Department of Transportation.

Copies of the revised Proposed Findings Document may be found on the NOAA Web site at http://www.ocrm.nos.noaa.gov/czm/6217/ or may be obtained upon request from: Helen Farr, Coastal Programs Division (N/ORM3), Office of Ocean and Coastal Resource Management, NOS, NOAA, 1305 East-Fast Highway, Silver Spring, Maryland, 20910, phone (301) 713-3155, x150 e-mail helen.farr@noaa.gov.

DATES: Individuals or organizations wishing to submit comments on the proposed Findings Document should do so by May 7, 2003.

ADDRESSES: Comments should be made to: John King, Acting Chief, Coastal Programs Division (N/ORM3), Office of Ocean and Coastal Resource Management, NOS, NOAA, 1305 East-West Highway, Silver Spring, Maryland, 20910, phone (301) 713-3155, x188, e-mail john.king@noaa.gov.

FOR FURTHER INFORMATION CONTACT: Helen Farr, Coastal Programs Division (N/ORM3), Office of Ocean and Coastal Resource Management, NOS, NOAA, 1305 East-West Highway, Silver Spring, Maryland, 20910, phone (301) 713-3155, x150, e-mail helen.farr@noaa.gov.

(Federal Domestic Assistance Catalog 11.419 Coastal Zone Management Program Administration)
Dated: March 31, 2003.
Ted I. Lillestolen,
Associate Deputy, Assistant Administrator, for Ocean Services and Coastal Zone Management, National Oceanic and Atmospheric Administration.
Dated: March 28, 2003.
G. Tracy Mehan, III,
Assistant Administrator, Office of Water, Environmental Protection Agency.

[FR Doc. 03-8289 Filed 4-4-03; 8:45 am]

BILLING CODE 6560-50-M